ENVIRONMENTAL PROTECTION AGENCY

[FRL-9922-84-OA]

Announcement of the Board of Directors for the National Environmental Education Foundation

AGENCY: Office of External Affairs and Environmental Education, Environmental Protection Agency.

ACTION: Notice.

SUMMARY: The National Environmental Education and Training Foundation (doing business as The National Environmental Education Foundation or NEEF) was created by Section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation promotes innovative environmental education and training programs such as environmental education for medical healthcare providers and broadcast meteorologists; it also develops partnerships with government and other organizations to administer projects that promote the development of an environmentally literal public. The Administrator of the U.S. Environmental Protection Agency, as required by the terms of the Act, announces the following appointment to the National Environmental Education Foundation Board of Directors. The appointee is Raul Perea-Henze, M.D., M.P.H., managing director of HORUS Advisors as a strategy advisor in healthcare, global affairs and government relations.

FOR FURTHER INFORMATION CONTACT: For information regarding this Notice of Appointment, please contact Mr. Brian Bond, Senior Advisor to the Administrator for Public Engagement, U.S. EPA, 1200 Pennsylvania Ave. NW., Washington, DC 20460. General information concerning NEEF can be found on their Web site at: http://www.neefusa.org.

SUPPLEMENTARY INFORMATION:

Additional Considerations

Great care has been taken to assure that this new appointee not only has the highest degree of expertise and commitment, but also brings to the Board diverse points of view relating to environmental education. This appointment is a four-year term which may be renewed once for an additional four years pending successful re-election by the NEEF nominating committee.

This appointee will join the current Board members which include:

• Decker Anstrom (NEEF Chairman) Former U.S. Ambassador, Retired Chairman, The Weather Channel Companies

• Trish Silber (NEEF Vice Chair) President, Aliniad Consulting Partners, Inc.

• Diane Wood (NEEF Secretary) President, National Environmental Education Foundation

• Carlos Alcazar, Founder and Chairman, Culture ONE World

• Megan Reilly Cayten, Co-Founder and Chief Executive Officer, Catrinka, LLC

• Philippe Cousteau, Co-Founder and CEO, EarthEcho International

• David M. Kiser, Vice President, Environment, Health, Safety and Sustainability, International Paper

• Wonya Lucas, President, Lucas Strategic Consulting

• Shannon Schuyler, Principal, Corporate Responsibility Leader, PricewaterhouseCoopers (PwC)

• Jacqueline M. Thomas, Vice President of Corporate Responsibility, Toyota Motor Sales USA Inc.

Background

Section 10(a) of the National Environmental Education Act of 1990 mandates a National Environmental Education Foundation. The Foundation is established in order to extend the contribution of environmental education and training to meeting critical environmental protection needs, both in this country and internationally; to facilitate the cooperation, coordination, and contribution of public and private resources to create an environmentally advanced educational system; and to foster an open and effective partnership among Federal, State, and local government, business, industry, academic institutions, community based environmental groups, and international organizations.

The Foundation is a charitable and nonprofit corporation whose income is exempt from tax, and donations to which are tax deductible to the same extent as those organizations listed pursuant to section 501(c) of the Internal Revenue Code of 1986. The Foundation is not an agency or establishment of the United States. The purposes of the Foundation are—

(A) Subject to the limitation contained in the final sentence of subsection (d) herein, to encourage, accept, leverage, and administer private gifts for the benefit of, or in connection with, the environmental education and training activities and services of the United States Environmental Protection Agency;

(B) to conduct such other environmental education activities as will further the development of an environmentally conscious and responsible public, a well-trained and environmentally literate workforce, and an environmentally advanced educational system;

(C) to participate with foreign entities and individuals in the conduct and coordination of activities that will further opportunities for environmental education and training to address environmental issues and problems involving the United States and Canada or Mexico.

The Foundation develops, supports, and/or operates programs and projects to educate and train educational and environmental professionals, and to assist them in the development and delivery of environmental education and training programs and studies.

The Foundation has a governing Board of Directors (hereafter referred to in this section as `the Board'), which consists of 13 directors, each of whom shall be knowledgeable or experienced in the environment, education and/or training. The Board oversees the activities of the Foundation and assures that the activities of the Foundation are consistent with the environmental and education goals and policies of the Environmental Protection Agency and with the intents and purposes of the Act. The membership of the Board, to the extent practicable, represents diverse points of view relating to environmental education and training. Members of the Board are appointed by the Administrator of the Environmental Protection Agency.

Within 90 days of the date of the enactment of the National Environmental Education Act, and as appropriate thereafter, the Administrator will publish in the Federal Register an announcement of appointments of Directors of the Board. Such appointments become final and effective 90 days after publication in the Federal Register. The directors are appointed for terms of 4 years. The Administrator shall appoint an individual to serve as a director in the event of a vacancy on the Board within 60 days of said vacancy in the manner in which the original appointment was made. No individual may serve more than 2 consecutive terms as a director.

Dated: February 3, 2015.
Gina McCarthy,
Administrator.

Raul Perea-Henze, M.D., M.P.H.

Dr. Perea-Henze, M.D., M.P.H. is currently managing director of HORUS Advisors as a strategy advisor in healthcare, global affairs and government relations.

He worked in the private sector, as senior executive at Merck & Co., Inc. and Pfizer Inc. Among his many responsibilities at these companies he assisted in shaping corporate responsibility, philanthropy and external affairs participating in committees at the Institute of Medicine, World Medical Association, The Clinton Global Initiative and the Gates Foundation.

In the public sector, he served as assistant secretary for policy and planning at the U.S. Department of Veterans Affairs where he had direct oversight for a $9 billion portfolio of priority programs. Before joining the VA in 2010, he was an advisor to the Obama Presidential Transition Team. He was deputy assistant secretary for management and budget at the U.S. Department of Commerce from 1999 to 2001.

He has a medical degree from the University of Chihuahua in Mexico and a master's degree in public health from Yale University. We believe he will be a great addition to the NEEF board and we respectfully submit his name for appointment to the NEEF Board of Directors.

[FR Doc. 2015-02574 Filed 2-6-15; 8:45 am]

BILLING CODE 6560-50-P